DEPARTMENT OF HEALTH AND HUMAN SERVICES

National Institutes of Health

National Institute of Environmental Health Sciences; Notice of Meeting

Pursuant to section 1009 of the Federal Advisory Committee Act, as amended, notice is hereby given of a meeting of the Board of Scientific Counselors, National Institute Environmental Health Sciences.

This will be a hybrid meeting held in-person and virtually and will be open to the public as indicated below. Individuals who plan to attend in-person or view the virtual meeting and need special assistance or other reasonable accommodations, should notify the Contact Person listed below in advance of the meeting. The meeting can be accessed from the NIH Videocast at the following link: https://videocast.nih.gov/.

The meeting will be closed to the public as indicated below in accordance with the provisions set forth in section 552b(c)(6), Title 5 U.S.C., as amended for the review, discussion, and evaluation of individual intramural programs and projects conducted by the National Institute of Environmental Health Sciences, including consideration of personnel qualifications and performance, and the competence of individual investigators, the disclosure of which would constitute a clearly unwarranted invasion of personal privacy.

Name of Committee: Board of Scientific Counselors, National Institute Environmental Health Sciences ESBSC December 3-5, 2023 Meeting.

Date: December 3-5, 2023.

Closed: December 03, 2023, 7:00 p.m. to 8:00 p.m.

Agenda: Discussion of BSC Reviews.

Place: National Institute Environmental Health Sciences (NIEHS), Rodbell Auditorium, 111 TW Alexander Drive, Research Triangle Park, NC 27709 (Hybrid Meeting).

Open: December 04, 2023, 8:30 a.m. to 10:00 a.m.

Agenda: Meeting Overview and Q & A Session.

Place: National Institute Environmental Health Sciences (NIEHS), Rodbell Auditorium, 111 TW Alexander Drive, Research Triangle Park, NC 27709 (Hybrid Meeting).

Open: December 04, 2023, 10:15 a.m. to 11:55 a.m.

Agenda: Q & A Session.

Place: National Institute Environmental Health Sciences (NIEHS), Rodbell Auditorium, 111 TW Alexander Drive, Research Triangle Park, NC 27709 (Hybrid Meeting).

Closed: December 04, 2023, 11:55 a.m. to 12:40 p.m.

Agenda: 1:1 Sessions with Investigators.

Place: National Institute Environmental Health Sciences (NIEHS), Rodbell Auditorium, 111 TW Alexander Drive, Research Triangle Park, NC 27709 (Hybrid Meeting).

Closed: December 04, 2023, 12:40 p.m. to 1:30 p.m.

Agenda: Working Lunch.

Place: National Institute Environmental Health Sciences (NIEHS), Rodbell Auditorium, 111 TW Alexander Drive, Research Triangle Park, NC 27709 (Hybrid Meeting).

Open: December 04, 2023, 1:35 p.m. to 3:15 p.m.

Agenda: Q & A Session.

Place: National Institute Environmental Health Sciences (NIEHS), Rodbell Auditorium, 111 TW Alexander Drive, Research Triangle Park, NC 27709 (Hybrid Meeting).

Open: December 04, 2023, 3:30 p.m. to 4:20 p.m.

Agenda: Q & A Session.

Place: National Institute Environmental Health Sciences (NIEHS), Rodbell Auditorium, 111 TW Alexander Drive, Research Triangle Park, NC 27709 (Hybrid Meeting).

Closed: December 04, 2023, 4:25 p.m. to 5:10 p.m.

Agenda: 1:1 Sessions with Investigators.

Place: National Institute Environmental Health Sciences (NIEHS), Rodbell Auditorium, 111 TW Alexander Drive, Research Triangle Park, NC 27709 (Hybrid Meeting).

Open: December 05, 2023, 8:30 a.m. to 10:00 a.m.

Agenda: Poster Session.

Place: National Institute Environmental Health Sciences (NIEHS), Rodbell Auditorium, 111 TW Alexander Drive, Research Triangle Park, NC 27709 (Hybrid Meeting).

Closed: December 05, 2023, 10:00 a.m. to 11:00 a.m.

Agenda: Meeting with Fellows, Staff Scientists.

Place: National Institute Environmental Health Sciences (NIEHS), Rodbell Auditorium, 111 TW Alexander Drive, Research Triangle Park, NC 27709 (Hybrid Meeting).

Closed: December 05, 2023, 11:00 a.m. to 12:30 p.m.

Agenda: Working Lunch.

Place: National Institute Environmental Health Sciences (NIEHS), Rodbell Auditorium, 111 TW Alexander Drive, Research Triangle Park, NC 27709 (Hybrid Meeting).

Closed: December 05, 2023, 12:30 p.m. to 1:20 p.m.

Agenda: Meeting with Cores/Programs; Closed BSC Discussion and Completion of Individual Review Assignments by each Member; Closed Debriefing to NIEHS/DIR Leadership.

Place: National Institute Environmental Health Sciences (NIEHS), Rodbell Auditorium, 111 TW Alexander Drive, Research Triangle Park, NC 27709 (Hybrid Meeting).

Closed: December 05, 2023, 1:30 p.m. to 3:00 p.m.

Agenda: BSC Discussion and Completion of Individual Review Assignments by each Member.

Place: National Institute Environmental Health Sciences (NIEHS), Rodbell Auditorium, 111 TW Alexander Drive, Research Triangle Park, NC 27709 (Hybrid Meeting).

Closed: December 05, 2023, 3:15 p.m. to 4:15 p.m.

Agenda: Debriefing to NIEHS/DIR Leadership.

Place: National Institute Environmental Health Sciences (NIEHS), Rodbell Auditorium, 111 TW Alexander Drive, Research Triangle Park, NC 27709 (Hybrid Meeting).

Contact Person: Darryl C. Zeldin, Scientific Director & Principal Investigator, Division of Intramural Research, National Institute of Environmental Sciences, NIH, 111 T.W. Alexander Drive, Mail drop MSC A2-09, Research Triangle Park, NC 27709, 919-541-1169, zeldin@niehs.nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: September 29, 2023.
Miguelina Perez,
Program Analyst, Office of Federal Advisory Committee Policy.

[FR Doc. 2023-22118 Filed 10-4-23; 8:45 am]

BILLING CODE 4140-01-P